DEPARTMENT OF AGRICULTURE

Forest Service

Black Hills National Forest, Mystic Ranger District, South Dakota, Mitchell Project

AGENCY: Forest Service, USDA.

ACTION: Notice of intent to prepare an Environmental Impact Statement (EIS).

SUMMARY: The Forest Service will prepare an environmental impact statement on a proposal to use multiple vegetation treatments focused on creating a landscape condition more adapted to fire and that reduces potential for high severity wildfire near at-risk communities and in the wildland-urban interface. The proposal is being planned for the 25,200 acre Mitchell Project Area that includes about 18,300 acres of National Forest System land and about 6,900 acres of interspersed private land. The project area generally extends from west of Hill City, South Dakota to Keystone, South Dakota (just north of Mount Rushmore National Memorial). This project will be conducted as an authorized project under Section 102 of the Healthy Forests Restoration Act of 2003 (HFRA). Actions proposed for the Mitchell Project Area include the following:

• Restoring natural fuel breaks by removing conifers from hardwood stands such as aspen, bur oak, birch and by expanding and/or creating meadows (est. 1,400 acres).

• Reducing the amount of existing and created forest fuels by use of various treatment methods (e.g., chipping, burning); creating fuel breaks (est. 40 miles); and prescribed burning (est. 9,000 acres).

• Thinning the ponderosa pine forest by using commercial timber harvest to thin commercial size trees and other methods to thin smaller trees of non-commercial size (est. 9,400 acres).

DATES: Comments concerning the scope of the analysis would be most useful if received by 30-days following the date of this notice. The draft environmental impact statement is expected to be available for public review by October 2006 and the final environmental impact statement is expected to be completed by March 2007.

ADDRESSES: Send written comments to Robert J. Thompson, District Ranger, Black Hills National Forest, Mystic Ranger District, Mitchell Project Area, 803 Soo San Drive, Rapid City, South Dakota 57702. Telephone Number: (605) 343-1567. E-mail: comments-rocky-mountain-black-hills-mystic@fs.fed.us. with “Mitchell” as the subject. Electronic comments must be readable in Word, Rich Text or pdf formats.

FOR FURTHER INFORMATION CONTACT: Phillip Grumstrup, Project Coordinator, Black Hills National Forest, Mystic Ranger District, at above address, phone (605) 343-1567.

SUPPLEMENTARY INFORMATION: The actions proposed are in direct response to management direction provided by the Black Hills National Forest Land and Resource Management Plan (Forest Plan). The site specific actions are designed, based on Forest Plan Standards and Guidelines, to move existing resource conditions in the Mitchell Project Area toward meeting Forest Plan Goals and Objectives. Located within the project area are: The cities of Keystone and Hill City, U.S. Highway 16 and 385 corridors, U.S. Highway 16A, access to Keystone and the Mount Rushmore National Memorial, and interspersed private lands surrounded by National Forest System lands. Anticipated issues include: Protection of local communities, private and public lands, infrastructure and access from severe wildfire; associated fire and fuels hazard reduction needs in the wildand-urban interface; support and opposition to forest thinning using commercial timber harvest; impacts of vegetation treatment and multiple forest uses on wildlife habitat. The range of alternatives analyzed in the EIS is expected to be consistent with sec. 104 of the HFRA.

Purpose and Need for Action

The purpose of the Mitchell Project is to reduce risk to local communities and resources from severe wildfire and restore resource conditions to a healthy, resilient fire-adapted ecosystem across the project area. There is a need to reduce potential for large-scale severe wildfire and to facilitate effective wildfire suppression/protection in this wildland-urban interface setting. This project is focused on implementing management actions that move toward achieving:

• Desired conditions and objectives embodied in Goal 10 of the Forest Plan—Establish and maintain a mosaic of vegetative conditions to reduce the occurrences of stand-replacing fire * * * and to facilitate * * * firefighting capbility adjacent to at-risk communities, sensitive resources, and non-federal land * * *.

• Desired conditions and objectives embodied in Goal 7 of the Forest Plan—Emphasize cooperation with individuals, organizations and other agencies while coordinating planning and project implementation.

• Goals and Objectives applicable to Forest Plan Management Area (MA) 4.1—Limited Motorized Use and Forest Product Emphasis; MA 5.1—Resource Production Emphasis; and MA 5.4—Big Game Winter Range Emphasis.

• Goals of the Healthy Forest Restoration Act (HFRA) of 2003 (HR 1904) and other National level initiatives and policy that emphasize reducing the probability and occurrence of severe wildfire in fire adapted ecosystems especially near at-risk communities and the wildland-urban interface.

Proposed Action

Proposed actions include the following:

• Restore natural fuel breaks to help reduce the potential for large-scale, intense wildfire spread. Treatment includes removing conifers from hardwood stands such as aspen, bur oak, birch and by expanding and/or creating meadows (est. 1,400 acres).

• Reduce the amount of existing forest fuels and fuels created by vegetation treatment activities. Treatment includes lopping, chipping, crushing, piling and burning; creating up to 40 miles of fuels breaks along roads and private property boundaries; and prescribed burning of up to 9,000 acres to reduce fuel levels.

• Thinning the ponderosa pine forest on about 9,400 acres to reduce potential for spreading crown fires by reducing the density of pine, providing fuel breaks, lessening insect and disease risk and improving forest health and vigor. This will be accomplished by using commerical timber harvest to thin commerical size trees and other methods to thin smaller trees of non-commercial size.

Responsible Official

Craige Bobzien, Forest Supervisor, Black Hills National Forest, 25041 N. Highway 16, Custer, SD 57730.

Nature of Decision To Be Made

The decision to be made is whether or not to implement the proposed action or possible alternative at this time.

Scoping Process

Comments and input regarding the proposal will be received via direct mailing from the public, other groups and agencies during the initial public comment period in May and June 2006. Comments submitted based on this NOI will be most useful if received within 30 days from the date of this notice. Response to the draft EIS will be sought from the interested public beginning in October 2006.

Comment Requested

This notice of intent provides information that the agency will prepare an environmental impact statement in response to public comment and feedback during the May and June 2006 scoping period. Comments received will assist the planning team to identify key issues and opportunities used to refine the proposal or possible alternative and mitigation measures. Comments on the DEIS will be requested during the 45 day comment period following the Notice of Availability, expected to be published in the Federal Register in November 2006 (See discussion below).

Early Notice of Importance of Public Participation in Subsequent Environmental Review

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F.Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement.

Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service handbook 1909.15, Section 21)

Dated: May 17, 2006.
Brad Exton,
Deputy Forest Supervisor, Black Hills National Forest.

[FR Doc. 06-4759 Filed 5-22-06; 8:45 am]

BILLING CODE 3410-11-M